DEPARTMENT OF HEALTH AND HUMAN SERVICES

Administration for Children and Families

Submission for OMB Review; National Communication System for Runaway and Homeless Youth, Currently Operated by the National Runaway Safeline (NRS) Data Collection (New Collection)

AGENCY: Family and Youth Services Bureau, Administration for Children and Families, HHS.

ACTION: Request for public comment.

SUMMARY: The Family and Youth Services Bureau's (FYSB) Runaway and Homeless Youth Division has a legislative requirement to fund a National Communication System, which is currently operated by the National Runaway Safeline (NRS). The NRS provides information, referral services, crisis intervention, and prevention resources to vulnerable youth at risk of running away and/or becoming homeless and their families or legal guardians at no cost. When necessary, the NRS refers runaway and homeless youth to shelters, counseling, medical assistance, and other vital services. The NRS collects information from all contacts with youth and adults connecting with the NRS (i.e., parents, family members, legal guardians, service providers) on a voluntary basis to inform crisis services and develop an annual report on the information collected during calls, chats, emails, and forum posts from young people who reached out to the NRS's crisis services.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The NRS is required to have a system for collecting and analyzing data to report on calls, emails, chat, texts, and online messages received as well as other information, such as prevention resources, referrals, demographics, and visitors to the NRS website. The NRS must submit monthly and semi-annual reports that include the following:

• Number of calls received, answered, and missed.

• Number of chats, emails, and texts received; number of chats, emails, and texts answered; and number of chats, emails, and texts that were missed and did not receive a response, in which the users are youth in crisis, runaway youth, and youth experiencing homelessness.

• Number of parents, legal guardians, and service providers contacting the NRS and the type of resources, interventions, and technical support/assistance requested and provided.

• Number and type of prevention materials disseminated to communities, especially to underserved populations.

• Number and type of unique visitors to the NRS' website.

• Information on referrals provided and where youth were referred for services.

• Information on the callers' or users' demographics and where they were located when contacting the NRS.

• Information on the prevention materials developed and disseminated by the NRS.

• Information and analysis of the latest trends and their impact on runaway prevention.

The NRS will use two forms, one form to collect relevant information disclosed during calls, emails, and forum posts and a second form to collect information from chats. All data will be provided to FYSB in the aggregate and no personally identifiable data are collected.

The information collected will allow FYSB to better understand the types of services needed by youth contacting the NRS, as well as to identify outreach and prevention strategies to increase the visibility of the NRS services among youth experiencing housing instability, homelessness, youth who run away, and youth in crisis. Additionally, the findings from this data collection will be included in a required Report to Congress to provide relevant and up-to-date information on the status of youth in crisis and runaway and homeless youth nationwide.

Respondents: Youth and adults who contact the National Runaway Safeline during calls, chats, emails, and forum posts.

Annual Burden Estimates
Instrument | Total number of respondents | Total number of responses per respondent | Average burden hours per response | Total burden hours | Annual burden hours
Youth in Crisis Form | 47,175 | 1 | .23 | 10,850 | 3,617
NRS Live Chat Form | 29,679 | 1 | .65 | 19,291 | 6,430

Estimated Total Annual Burden Hours: 10,047.

Authority: Section 331 of the Runaway and Homeless Youth Act authorizes the award of grants for the National Communication System for Runaway and Homeless Youth (34 U.S.C. 11231).

John M. Sweet, Jr.,
ACF/OPRE Certifying Officer.

[FR Doc. 2023-04992 Filed 3-9-23; 8:45 am]

BILLING CODE 4182-04-P